DEPARTMENT OF HEALTH AND HUMAN SERVICES

Administration for Children and Families

Proposed Information Collection Activity; Comment Request

Proposed Projects

Title: Child Care and Development Fund Annual Financial Report for Tribes (ACF-696T).

OMB No.: 0970-0195.

Description: The Child Care and Development Fund (CCDF) annual financial reporting form (ACF-696T) provides a mechanism for Indian Tribes to report expenditures under the CCDF program. The CCDF program provides funds to Tribes, as well as States and Territories, to assist low-income families in obtaining child care so that they can work or attend training/education, and to improve the quality of care. Information collected via the ACF-696T allows the Administration for Children and Families (ACF) to monitor expenditures and to estimate outlays and may be used to prepare ACF budget submissions to Congress. This information collection is a revised version of the currently-used ACF-696T for which Office of Management and Budget (OMB) approval expires on February 28, 2002.

Respondents: Indian Tribes and Tribal Organizations that are CCDF grantees.

Annual Burden Estimates
Instrument | Number of respondents | Number of responses per respondent | Average burden hours per response | Total burden hours
ACF-696T | 232 | 1 | 8 | 1856
Estimated Total Annual Burden Hours |  |  |  | 1856

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarify of the information to be collected; and (d) ways to minimize the burden of the collection of information on respondents, including through the use of automated collection techniques or other forms of information technology. Consideration will be given to comments and suggestions submitted within 60 days of this publication.

Dated: September 4, 2001.
Bob Sargis,
Reports Clearance Officer.

[FR Doc. 01-22607 Filed 9-7-01; 8:45 am]

BILLING CODE 4184-01-M